DEPARTMENT OF THE INTERIOR

Fish and Wildlife Service

50 CFR Part 17

[Docket No. FWS-HQ-ES-2020-0003; FF09E21000 FXES11110900000 212]

Endangered and Threatened Wildlife and Plants; Review of Domestic Species That Are Candidates for Listing as Endangered or Threatened; Annual Notification of Findings on Resubmitted Petitions; Annual Description of Progress on Listing Actions

AGENCY: Fish and Wildlife Service, Interior.

ACTION: Notification of review.

SUMMARY: In this document, known as a Candidate Notice of Review (CNOR), we, the U.S. Fish and Wildlife Service (Service), present an updated list of domestic plant and animal species that we regard as candidates for or have proposed for addition to the Lists of Endangered and Threatened Wildlife and Plants under the Endangered Species Act of 1973, as amended. This document also includes our findings on resubmitted petitions and describes our progress in revising the Lists of Endangered and Threatened Wildlife and Plants (Lists) during the period October 1, 2018, through September 30, 2020. Combined with other decisions for individual species that were published separately from this CNOR in the past year, the current number of domestic species that are candidates for listing is 11. Identification of candidate species can assist environmental planning efforts by providing advance notice of potential listings, and by allowing landowners and resource managers to alleviate threats and thereby possibly remove the need to list species as endangered or threatened. Even if we subsequently list a candidate species, the early notice provided here could result in more options for species management and recovery by prompting earlier candidate conservation measures to alleviate threats to the species. This document also adds the Sonoran desert tortoise back to the candidate list as a result of an August 3, 2020, court-approved settlement agreement.

DATES: We will accept information on any of the species in this document at any time.

ADDRESSES: This document is available on the internet at http://www.regulations.gov and http://www.fws.gov/endangered/what-we-do/cnor.html.

Species assessment forms with information and references on a particular candidate species' range, status, habitat needs, and listing priority assignment are available for review on our website (http://ecos.fws.gov/tess_public/reports/candidate-species-report). Please submit any new information, materials, comments, or questions of a general nature on this CNOR to the address listed under FOR FURTHER INFORMATION CONTACT. Please submit any new information, materials, comments, or questions pertaining to a particular species to the address of the Regional Director in the appropriate office listed under Request for Information in SUPPLEMENTARY INFORMATION.

FOR FURTHER INFORMATION CONTACT: Caitlin Snyder, Chief, Branch of Domestic Listing, U.S. Fish and Wildlife Service, MS: ES, 5275 Leesburg Pike, Falls Church, VA 22041-3803 (telephone 703-358-1796).

Persons who use a telecommunications device for the deaf may call the Federal Relay Service at 800-877-8339.

SUPPLEMENTARY INFORMATION:

Background

The Endangered Species Act of 1973 (Act), as amended (ESA; 16 U.S.C. 1531 et seq.), requires that we identify species of wildlife and plants that are endangered or threatened based solely on the best scientific and commercial data available. As defined in section 3 of the Act, an endangered species is any species that is in danger of extinction throughout all or a significant portion of its range, and a threatened species is any species that is likely to become an endangered species within the foreseeable future throughout all or a significant portion of its range. Through the Federal rulemaking process, we add species that meet these definitions to the List of Endangered and Threatened Wildlife in title 50 of the Code of Federal Regulations (CFR) at § 17.11 (50 CFR 17.11) or the List of Endangered and Threatened Plants at 50 CFR 17.12. As part of this program, we maintain a list of species that we regard as candidates for listing. A candidate species is one for which we have on file sufficient information on biological vulnerability and threats to support a proposal for listing as endangered or threatened, but for which preparation and publication of a proposal is precluded by higher priority listing actions. We may identify a species as a candidate for listing after we have conducted an evaluation of its status—either on our own initiative, or in response to a petition we have received. If we have made a finding on a petition to list a species, and have found that listing is warranted, but precluded by other higher priority listing actions, we will add the species to our list of candidates.

We maintain this list of candidates for a variety of reasons: (1) To notify the public that these species are facing threats to their survival; (2) to provide advance knowledge of potential listings that could affect decisions of environmental planners and developers; (3) to provide information that may stimulate and guide conservation efforts that will remove or reduce threats to these species and possibly make listing unnecessary; (4) to request input from interested parties to help us identify those candidate species that may not require protection under the Act, as well as additional species that may require the Act's protections; and (5) to request necessary information for setting priorities for preparing listing proposals. We encourage collaborative conservation efforts for candidate species and offer technical and financial assistance to facilitate such efforts. For additional information regarding such assistance, please contact the appropriate Office listed under Request for Information, below, or visit our website at: http://www.fws.gov/endangered/what-we-do/cca.html.

Previous Candidate Notices of Review

We have been publishing CNORs since 1975. The most recent was published on October 10, 2019 (84 FR 54732). CNORs published since 1994 are available on our website at http://www.fws.gov/endangered/what-we-do/cnor.html. For copies of CNORs published prior to 1994, please contact the Branch of Domestic Listing (see FOR FURTHER INFORMATION CONTACT, above).

On September 21, 1983, we published guidance for assigning an LPN for each candidate species (48 FR 43098). Using this guidance, we assign each candidate an LPN of 1 to 12, depending on the magnitude of threats, immediacy of threats, and taxonomic status; the lower the LPN, the higher the listing priority (that is, a species with an LPN of 1 would have the highest listing priority). Section 4(h)(3) of the Act (16 U.S.C. 1533(h)(3)) requires the Secretary to establish guidelines for such a priority-ranking system. As explained below, in using this system, we first categorize based on the magnitude of the threat(s), then by the immediacy of the threat(s), and finally by taxonomic status.

Under this priority-ranking system, magnitude of threat can be either “high” or “moderate to low.” This criterion helps ensure that the species facing the greatest threats to their continued existence receive the highest listing priority. All candidate species face threats to their continued existence, so the magnitude of threats is in relative terms. For all candidate species, the threats are of sufficiently high magnitude to put them in danger of extinction or make them likely to become in danger of extinction in the foreseeable future. However, for species with higher magnitude threats, the threats have a greater likelihood of bringing about extinction or are expected to bring about extinction on a shorter timescale (once the threats are imminent) than for species with lower-magnitude threats. Because we do not routinely quantify how likely or how soon extinction would be expected to occur absent listing, we must evaluate factors that contribute to the likelihood and time scale for extinction. We therefore consider information such as: (1) The number of populations or extent of range of the species affected by the threat(s), or both; (2) the biological significance of the affected population(s), taking into consideration the life-history characteristics of the species and its current abundance and distribution; (3) whether the threats affect the species in only a portion of its range, and, if so, the likelihood of persistence of the species in the unaffected portions; (4) the severity of the effects and the rapidity with which they have caused or are likely to cause mortality to individuals and accompanying declines in population levels; (5) whether the effects are likely to be permanent; and (6) the extent to which any ongoing conservation efforts reduce the severity of the threat(s).

As used in our priority-ranking system, immediacy of threat is categorized as either “imminent” or “nonimminent,” and is based on when the threats will begin. If a threat is currently occurring or likely to occur in the very near future, we classify the threat as imminent. Determining the immediacy of threats helps ensure that species facing actual, identifiable threats are given priority for listing proposals over species for which threats are only potential or species that are intrinsically vulnerable to certain types of threats but are not known to be presently facing such threats.

Our priority-ranking system has three categories for taxonomic status: Species that are the sole members of a genus; full species (in genera that have more than one species); and subspecies and distinct population segments of vertebrate species (DPS).

The result of the ranking system is that we assign each candidate a listing priority number of 1 to 12. For example, if the threats are of high magnitude, with immediacy classified as imminent, the listable entity is assigned an LPN of 1, 2, or 3 based on its taxonomic status (i.e., a species that is the only member of its genus would be assigned to the LPN 1 category, a full species to LPN 2, and a subspecies or DPS would be assigned to LPN 3). In summary, the LPN ranking system provides a basis for making decisions about the relative priority for preparing a proposed rule to list a given species. No matter which LPN we assign to a species, each species included in this CNOR as a candidate is one for which we have concluded that we have sufficient information to prepare a proposed rule for listing because it is in danger of extinction or likely to become endangered within the foreseeable future throughout all or a significant portion of its range.

For more information on the process and standards used in assigning LPNs, a copy of the 1983 guidance is available on our website at: http://www.fws.gov/endangered/esa-library/pdf/1983_LPN_Policy_FR_pub.pdf. Information on the LPN assigned to a particular species is summarized in this CNOR, and the species assessment for each candidate contains the LPN chart and a more-detailed explanation—including citations to, and more-detailed analyses of, the best scientific and commercial data available—for our determination of the magnitude and immediacy of threat(s) and assignment of the LPN.

Summary of This CNOR

Since publication of the previous CNOR on October 10, 2019 (84 FR 54732), we reviewed the available information on candidate species to ensure that a proposed listing is justified for each species, and reevaluated the relative LPN assigned to each species. We also evaluated the need to emergency list any of these species, particularly species with higher priorities (i.e., species with LPNs of 1, 2, or 3). This review and reevaluation ensures that we focus conservation efforts on those species at greatest risk.

We are not identifying any new candidates, changing the listing priority number of any existing candidates, or removing any candidates through this CNOR. We are putting the Sonoran desert tortoise (Gopherus morafkai) back on the candidate list as a result of a court-approved settlement agreement.

In addition to reviewing candidate species since publication of the last CNOR, we have worked on findings in response to petitions to list species, on proposed rules to list species under the Act, and on final listing determinations. Some of these findings and determinations have been completed and published in the Federal Register, while work on others is still under way (see Preclusion and Expeditious Progress, below, for details).

Combined with other findings and determinations published separately from this CNOR, 11 species are now candidates awaiting preparation of a proposed listing rule or “not-warranted” finding. Table 1 identifies these 11 species, along with the 17 species currently proposed for listing (including 1 species proposed for listing due to similarity in appearance).

Table 2 lists the changes for species identified in the previous CNOR and includes six species identified in the previous CNOR as either proposed for listing or classified as candidates that are no longer in those categories. This includes three species for which we published a final listing rule and three candidate species for which we published separate not-warranted findings and removed them from candidate status.

Petition Findings

The Act provides two mechanisms for considering species for listing. One method allows the Secretary, on the Secretary's own initiative, to identify species for listing under the standards of section 4(a)(1). The second method provides a mechanism for the public to petition us to add a species to the Lists. As described further in the paragraphs that follow, the CNOR serves several purposes as part of the petition process: (1) in some instances (in particular, for petitions to list species that the Service has already identified as candidates on its own initiative), it serves as the initial petition finding; (2) for candidate species for which the Service has made a warranted-but-precluded petition finding, it serves as a “resubmitted” petition finding that the Act requires the Service to make each year; and (3) it documents the Service's compliance with the statutory requirement to monitor the status of species for which listing is warranted but precluded, and to ascertain if they need emergency listing.

First, the CNOR serves as an initial petition finding in some instances. Under section 4(b)(3)(A) of the Act, when we receive a petition to list a species, we must determine within 90 days, to the maximum extent practicable, whether the petition presents substantial information indicating that listing may be warranted (a “90-day finding”). If we make a positive 90-day finding, we must promptly commence a status review of the species under section 4(b)(3)(A); we must then make, within 12 months of the receipt of the petition, one of the following three possible findings (a “12-month finding”):

(1) The petitioned action is not warranted, in which case we must promptly publish the finding in the Federal Register;

(2) The petitioned action is warranted (in which case we must promptly publish a proposed regulation to implement the petitioned action; once we publish a proposed rule for a species, sections 4(b)(5) and 4(b)(6) of the Act govern further procedures, regardless of whether or not we issued the proposal in response to a petition); or

(3) The petitioned action is warranted, but (a) the immediate proposal of a regulation and final promulgation of a regulation implementing the petitioned action is precluded by pending proposals to determine whether any species is endangered or threatened, and (b) expeditious progress is being made to add qualified species to the Lists. We refer to this third option as a “warranted-but-precluded finding,” and after making such a finding, we must promptly publish it in the Federal Register.

We define “candidate species” to mean those species for which the Service has on file sufficient information on biological vulnerability and threats to support issuance of a proposed rule to list, but for which issuance of the proposed rule is precluded (61 FR 64481; December 5, 1996). The standard for making a species a candidate through our own initiative is identical to the standard for making a warranted-but-precluded 12-month petition finding on a petition to list, and we add all petitioned species for which we have made a warranted-but-precluded 12-month finding to the candidate list.

Therefore, all candidate species identified through our own initiative already have received the equivalent of substantial 90-day and warranted-but-precluded 12-month findings. Nevertheless, if we receive a petition to list a species that we have already identified as a candidate, we review the status of the newly petitioned candidate species and through this CNOR publish specific section 4(b)(3) findings (i.e., substantial 90-day and warranted-but-precluded 12-month findings) in response to the petitions to list these candidate species. We publish these findings as part of the first CNOR following receipt of the petition. We have identified the candidate species for which we received petitions and made a continued warranted-but-precluded finding on a resubmitted petition by the code “C*” in the category column on the left side of Table 1, below.

Second, the CNOR serves as a “resubmitted” petition finding. Section 4(b)(3)(C)(i) of the Act requires that when we make a warranted-but-precluded finding on a petition, we treat the petition as one that is resubmitted on the date of the finding. Thus, we must make a 12-month petition finding for each such species at least once a year in compliance with section 4(b)(3)(B) of the Act, until we publish a proposal to list the species or make a final not-warranted finding. We make these annual resubmitted petition findings through the CNOR. To the extent these annual findings differ from the initial 12-month warranted-but-precluded finding or any of the resubmitted petition findings in previous CNORs, they supersede the earlier findings, although all previous findings are part of the administrative record for the new finding, and in the new finding, we may rely upon them or incorporate them by reference as appropriate, in addition to explaining why the finding has changed.

Third, through undertaking the analysis required to complete the CNOR, the Service determines if any candidate species needs emergency listing. Section 4(b)(3)(C)(iii) of the Act requires us to “implement a system to monitor effectively the status of all species” for which we have made a warranted-but-precluded 12-month finding and to “make prompt use of the [emergency listing] authority [under section 4(b)(7)] to prevent a significant risk to the well being of any such species.” The CNOR plays a crucial role in the monitoring system that we have implemented for all candidate species by providing notice that we are actively seeking information regarding the status of those species. We review all new information on candidate species as it becomes available, prepare an annual species assessment form that reflects monitoring results and other new information, and identify any species for which emergency listing may be appropriate. If we determine that emergency listing is appropriate for any candidate, we will make prompt use of the emergency listing authority under section 4(b)(7) of the Act. For example, on August 10, 2011, we emergency listed the Miami blue butterfly (76 FR 49542). We have been reviewing and will continue to review, at least annually, the status of every candidate, whether or not we have received a petition to list it. Thus, the CNOR, the accompanying species assessment forms, and the process by which the Service generates and reviews those documents together constitute the Service's system for monitoring and making annual findings on the status of petitioned species under sections 4(b)(3)(C)(i) and 4(b)(3)(C)(iii) of the Act.

A number of court decisions have elaborated on the nature and specificity of information that we must consider in making and describing the petition findings in the CNOR. The CNOR that published on November 9, 2009 (74 FR 57804), describes these court decisions in further detail. As with previous CNORs, we continue to incorporate information of the nature and specificity required by the courts. For example, we include a description of the reasons why the listing of every petitioned candidate species is both warranted and precluded at this time. We make our determinations of preclusion on a nationwide basis to ensure that the species most in need of listing will be addressed first and also because we allocate our listing budget on a nationwide basis (see below). Our preclusion determinations are further based upon our budget for listing activities for unlisted species only, and we explain the priority system and why the work we have accomplished has precluded action on listing candidate species.

In preparing this CNOR, we reviewed the current status of, and threats to, the 11 candidates for which we have received a petition to list and the 4 listed species for which we have received a petition to reclassify from threatened to endangered, where we found the petitioned action to be warranted but precluded. We find that the immediate issuance of a proposed rule and timely promulgation of a final rule for each of these species has been, for the preceding months, and continues to be, precluded by higher priority listing actions. However, for all of these candidate species, we are currently engaged in a thorough review of all available data to determine whether to proceed with a proposed listing rule; as a result of this review, we may conclude that listing is no longer warranted. For the two grizzly bear ecosystem populations, we are engaged in a thorough review of all available data to determine the appropriate status for those entities (see Petitions To Reclassify Species Already Listed, below). For the remaining two listed species—delta smelt and Pariette cactus, which are candidates for reclassification from threatened to endangered—we are providing updated species assessment forms and a summary of those assessments in this CNOR (see Petitions to Reclassify Species Already Listed, below). Additional information that is the basis for this finding is found in the species assessments and our administrative record for each species.

The immediate publication of proposed rules to list these species was precluded by our work on higher priority listing actions, listed below, during the period from October 1, 2018, through September 30, 2020. Below we describe the actions that continue to preclude the immediate proposal and final promulgation of a regulation implementing each of the petitioned actions for which we have made a warranted-but-precluded finding, and we describe the expeditious progress we are making to add qualified species to, and remove species from, the Lists. We will continue to monitor the status of all candidate species, including petitioned species, as new information becomes available to determine if a change in status is warranted, including the need to emergency list a species under section 4(b)(7) of the Act. As described above, under section 4 of the Act, we identify and propose species for listing based on the factors identified in section 4(a)(1)—either on our own initiative or through the mechanism that section 4 provides for the public to petition us to add species to the Lists of Endangered or Threatened Wildlife and Plants.

Preclusion and Expeditious Progress

To make a finding that a particular action is warranted but precluded, the Service must make two determinations: (1) That the immediate proposal and timely promulgation of a final regulation is precluded by pending proposals to determine whether any species is endangered or threatened; and (2) that expeditious progress is being made to add qualified species to either of the Lists and to remove species from the Lists (16 U.S.C. 1533(b)(3)(B)(iii)).

Preclusion

A listing proposal is precluded if the Service does not have sufficient resources available to complete the proposal, because there are competing demands for those resources, and the relative priority of those competing demands is higher. Thus, in any given fiscal year (FY), multiple factors dictate whether it will be possible to undertake work on a proposed listing regulation or whether promulgation of such a proposal is precluded by higher priority listing actions—(1) The amount of resources available for completing the listing function, (2) the estimated cost of completing the proposed listing regulation, and (3) the Service's workload, along with the Service's prioritization of the proposed listing regulation, in relation to other actions in its workload.

Available Resources

The resources available for listing actions are determined through the annual Congressional appropriations process. In FY 1998 and for each fiscal year since then, Congress has placed a statutory cap on funds that may be expended for the Listing Program (spending cap). This spending cap was designed to prevent the listing function from depleting funds needed for other functions under the Act (for example, recovery functions, such as removing species from the Lists), or for other Service programs (see House Report 105-163, 105th Congress, 1st Session, July 1, 1997). The funds within the spending cap are available to support work involving the following listing actions: Proposed and final rules to add species to the Lists or to change the status of species from threatened to endangered; 90-day and 12-month findings on petitions to add species to the Lists or to change the status of a species from threatened to endangered; annual “resubmitted” petition findings on prior warranted-but-precluded petition findings as required under section 4(b)(3)(C)(i) of the Act; critical habitat petition findings; proposed rules designating critical habitat or final critical habitat determinations; and litigation-related, administrative, and program-management functions (including preparing and allocating budgets, responding to Congressional and public inquiries, and conducting public outreach regarding listing and critical habitat).

For more than two decades the size and cost of the workload in these categories of actions have far exceeded the amount of funding available to the Service under the spending cap for completing listing and critical habitat actions under the Act. Since we cannot exceed the spending cap without violating the Anti-Deficiency Act (31 U.S.C. 1341(a)(1)(A)), each year we have been compelled to determine that work on at least some actions was precluded by work on higher-priority actions. We make our determinations of preclusion on a nationwide basis to ensure that the species most in need of listing will be addressed first, and because we allocate our listing budget on a nationwide basis. Through the listing cap and the amount of funds needed to complete court-mandated actions within the cap, Congress and the courts have in effect determined the amount of money remaining (after completing court-mandated actions) for listing activities nationwide. Therefore, the funds that remain within the listing cap—after paying for work needed to comply with court orders or court-approved settlement agreements—set the framework within which we make our determinations of preclusion and expeditious progress.

For FY 2019, through the Consolidated Appropriations Act of 2019, (Pub. L. 116-6, February 15, 2019), Congress appropriated the Service $18,318,000 under a consolidated cap for all domestic and foreign listing work, including status assessments, listing determinations, domestic critical habitat designations, and related activities. For FY 2020, through the Further Consolidated Appropriations Act, 2020 (Pub. L. 116-94, December 20, 2019), Congress appropriated $20,318,000 for all domestic and foreign listing work. The amount of funding Congress will appropriate in future years is uncertain.

Costs of Listing Actions

The work involved in preparing various listing documents can be extensive, and may include, but is not limited to: Gathering and assessing the best scientific and commercial data available and conducting analyses used as the basis for our decisions; writing and publishing documents; and obtaining, reviewing, and evaluating public comments and peer-review comments on proposed rules and incorporating relevant information from those comments into final rules. The number of listing actions that we can undertake in a given year also is influenced by the complexity of those listing actions; that is, more complex actions generally are more costly. Our practice of proposing to designate critical habitat concurrent with listing species requires additional coordination and an analysis of the economic impacts of the designation, and thus adds to the complexity and cost of our work. Since completing all of the work for outstanding listing and critical habitat actions has for so long required more funding than has been available within the spending cap, the Service has developed several ways to determine the relative priorities of the actions within its workload to identify the work it can complete with the funding it has available for listing and critical habitat actions each year.

Prioritizing Listing Actions

The Service's Listing Program workload is broadly composed of four types of actions, which the Service prioritizes as follows: (1) Compliance with court orders and court-approved settlement agreements requiring that petition findings or listing determinations or critical habitat designations be completed by a specific date; (2) essential litigation-related, administrative, and listing program-management functions; (3) section 4 (of the Act) listing and critical habitat actions with absolute statutory deadlines; and (4) section 4 listing actions that do not have absolute statutory deadlines.

In previous years, the Service received many new petitions, including multiple petitions to list numerous species, e.g., a single petition sought to list 404 domestic species. The emphasis that petitioners placed on seeking listing for hundreds of species at a time through the petition process significantly increased the number of actions within the third category of our workload—actions that have absolute statutory deadlines for making findings on those petitions. In addition, the necessity of dedicating all of the Listing Program funding towards determining the status of 251 candidate species and complying with other court-ordered requirements between 2011 and 2016 added to the number of petition findings awaiting action. Because we are not able to work on all of these at once, the Service's most recent effort to prioritize its workload focuses on addressing the backlog in petition findings that has resulted from the influx of large multi-species petitions and the 5-year period in which the Service was not making 12-month findings for most of those petitions. The number of petitions that are awaiting status reviews and accompanying 12-month findings illustrates the considerable extent of this backlog; as a result of the outstanding petitions to list hundreds of species, and our efforts to make initial petition findings within 90 days of receiving the petition to the maximum extent practicable, at the beginning of FY 2020 we had 422 12-month petition findings for domestic species yet to be initiated and completed.

To determine the relative priorities of the outstanding 12-month petition findings, the Service developed a prioritization methodology (methodology) (81 FR 49248; July 27, 2016), after providing the public with notice and an opportunity to comment on the draft methodology (81 FR 2229; January 15, 2016). Under the methodology, we assign each 12-month finding to one of five priority bins: (1) The species is critically imperiled; (2) strong data are already available about the status of the species; (3) new science is underway that would inform key uncertainties about the status of the species; (4) conservation efforts are in development or underway and likely to address the status of the species; or (5) the available data on the species are limited. As a general rule, 12-month findings with a lower bin number have a higher priority than, and are scheduled before, 12-month findings with a higher bin number. However, we make some limited exceptions—for example, we may schedule a lower-priority finding earlier if batching it with a higher-priority finding would generate efficiencies. We may also consider where there are any special circumstances whereby an action should be bumped up (or down) in scheduling. One limitation that might result in divergence from priority order is when the current highest priorities are clustered in a geographic area, such that our scientific expertise at the field office level is fully occupied with their existing workload. We recognize that the geographic distribution of our scientific expertise will in some cases require us to balance workload across geographic areas. Since before Congress first established the spending cap for the Listing Program in 1998, the Listing Program workload has required considerably more resources than the amount of funds Congress has allowed for the Listing Program. Therefore, it is important that we be as efficient as possible in our listing process.

After finalizing the prioritization methodology, we then applied that methodology to develop a multi-year National Listing Workplan (Workplan) for completing the outstanding status assessments and accompanying 12-month findings. The purpose of the Workplan is provide transparency and predictability to the public about when the Service anticipates completing specific 12-month findings while allowing for flexibility to update the Workplan when new information changes the priorities. In May 2019, the Service released its updated Workplan for addressing the Act's domestic listing and critical habitat decisions over the subsequent 5 years. The updated Workplan identified the Service's schedule for addressing all domestic species on the candidate list and conducting 267 status reviews and accompanying 12-month findings by FY 2023 for domestic species that have been petitioned for Federal protections under the Act. As we implement our Workplan and work on proposed rules for the highest-priority species, we increase efficiency by preparing multi-species proposals when appropriate, and these may include species with lower priority if they overlap geographically or have the same threats as one of the highest-priority species. The National Listing Workplan is available online at: https://www.fws.gov/endangered/what-we-do/listing-workplan.html.

An additional way in which we determine relative priorities of outstanding actions in the section 4 program is application of the listing priority guidelines (48 FR 43098; September 21, 1983). Under those guidelines, which apply primarily to candidate species, we assign each candidate a listing priority number (LPN) of 1 to 12, depending on the magnitude of threats (high or moderate to low), immediacy of threats (imminent or nonimminent), and taxonomic status of the species (in order of priority: Monotypic genus (a species that is the sole member of a genus), a species, or a part of a species (subspecies or distinct population segment)). The lower the listing priority number, the higher the listing priority (that is, a species with an LPN of 1 would have the highest listing priority). A species with a higher LPN would generally be precluded from listing by species with lower LPNs, unless work on a proposed rule for the species with the higher LPN can be combined for efficiency with work on a proposed rule for other high-priority species.

Finally, proposed rules for reclassification of threatened species status to endangered species status are generally lower in priority because, as listed species, they are already afforded the protections of the Act and implementing regulations. However, for efficiency reasons, we may choose to work on a proposed rule to reclassify a species to endangered species status if we can combine this with higher-priority work.

Listing Program Workload

The National Listing Workplan that the Service released in 2019 outlined work for domestic species over the period from 2019 to 2023. Tables 1 and 2 under Expeditious Progress, below, identify the higher-priority listing actions that we completed through FY 2020 (September 30, 2020), as well as those we have been working on in FY 2020 but have not yet completed. For FY 2020, our National Listing Workplan includes 74 12-month findings or proposed listing actions that are at various stages of completion at the time of this finding. In addition to the actions scheduled in the National Listing Workplan, the overall Listing Program workload also includes the development and revision of listing regulations that are required by new court orders or settlement agreements, or to address the repercussions of any new court decisions, as well as proposed and final critical habitat designations or revisions for species that have already been listed. The Service's highest priorities for spending its funding in FY 2019 and FY 2020 are actions included in the Workplan and actions required to address court decisions.

Expeditious Progress

As explained above, a determination that listing is warranted but precluded must also demonstrate that expeditious progress is being made to add and remove qualified species to and from the Lists. Please note that in the Code of Federal Regulations, the “Lists” are grouped as one list of endangered and threatened wildlife (50 CFR 17.11(h)) and one list of endangered and threatened plants (50 CFR 17.12(h)). However, the “Lists” referred to in the Act mean one list of endangered species (wildlife and plants) and one list of threatened species (wildlife and plants). Therefore, under the Act, expeditious progress includes actions to reclassify species—that is, either remove them from the list of threatened species and add them to the list of endangered species, or remove them from the list of endangered species and add them to the list of threatened species.

As with our “precluded” finding, the evaluation of whether expeditious progress is being made is a function of the resources available and the competing demands for those funds. As discussed earlier, the FY 2020 appropriations law included a spending cap of $20,318,000 for listing activities, and the FY 2019 appropriations law included a spending cap of $18,318,000 for listing activities.

As discussed below, given the limited resources available for listing, the competing demands for those funds, and the completed work catalogued in the tables below, we find that we are making expeditious progress in adding qualified species to the Lists.

The work of the Service's domestic listing program in FY 2019 and FY 2020 (as of September 30, 2020) includes all three of the steps necessary for adding species to the Lists: (1) Identifying species that may warrant listing (90-day petition findings); (2) undertaking an evaluation of the best available scientific data about those species and the threats they face to determine whether or not listing is warranted (a status review and accompanying 12-month finding); and (3) adding qualified species to the Lists (by publishing proposed and final listing rules). We explain in more detail how we are making expeditious progress in all three of the steps necessary for adding qualified species to the Lists (identifying, evaluating, and adding species). Subsequent to discussing our expeditious progress in adding qualified species to the Lists, we explain our expeditious progress in removing from the Lists species that no longer require the protections of the Act.

First, we are making expeditious progress in identifying species that may warrant listing. In FY 2019 and FY 2020 (as of September 30, 2020), we completed 90-day findings on petitions to list 14 species.

Second, we are making expeditious progress in evaluating the best scientific and commercial data available about species and threats they face (status reviews) to determine whether or not listing is warranted. In FY 2019 and FY 2020 (as of September 30, 2020), we completed 12-month findings for 69 species. In addition, we funded and worked on the development of 12-month findings for 34 species and proposed listing determinations for 9 candidates. Although we did not complete those actions during FY 2019 or FY 2020 (as of September 30, 2020), we made expeditious progress towards doing so by initiating and making progress on the status reviews to determine whether adding the species to the Lists is warranted.

Third, we are making expeditious progress in adding qualified species to the Lists. In FY 2019 and FY 2020 (as of September 30, 2020), we published final listing rules for 7 species, including final critical habitat designations for 1 of those species and final protective regulations under the Act's section 4(d) for 2 of those species. In addition, we published proposed rules to list an additional 20 species (including concurrent proposed critical habitat designations for 13 species and concurrent protective regulations under the Act's section 4(d) for 14 species).

The Act also requires that we make expeditious progress in removing species from the Lists that no longer require the protections of the Act. Specifically, we are making expeditious progress in removing (delisting) domestic species, as well as reclassifying endangered species to threatened species status (downlisting). This work is being completed under the Recovery program in light of the resources available for recovery actions, which are funded through the recovery line item in the budget of the Endangered Species Program. Because recovery actions are funded separately from listing actions, they do not factor into our assessment of preclusion; that is, work on recovery actions does not preclude the availability of resources for completing new listing work. However, work on recovery actions does count towards our assessment of making expeditious progress because the Act states that expeditious progress includes both adding qualified species to, and removing qualified species from, the Lists of Endangered and Threatened Wildlife and Plants. During FY 2019 and FY 2020 (as of September 30, 2020), we finalized downlisting of 1 species, finalized delisting rules for 7 species, proposed downlisting of 7 species, and proposed delisting of 11 species. The rate at which the Service has completed delisting and downlisting actions in FY 2019 and FY 2020 (as of September 30, 2020) is higher than any point in the history of the Act.

The tables below catalog the Service's progress in FY 2019 and FY 2020 (as of September 30, 2020) as it pertains to our evaluation of making expeditious progress. Table 1 includes completed and published domestic listing actions; Table 2 includes domestic listing actions funded and initiated in previous fiscal years and in FY 2020 that are not yet complete as of September 30, 2020; and Table 3 includes completed and published proposed and final downlisting and delisting actions for domestic species.

Table 1—Completed Domestic Listing Actions in FY 2019 and FY 2020
[As of September 30]
Publication date | Title | Action(s) | Federal Register Citation
10/9/2018 | Threatened Species Status for Coastal Distinct Population Segment of the Pacific Marten | Proposed Listing—Threatened with Section 4(d) Rule and 12-Month Petition Finding | 83 FR 50574-50582
10/9/2018 | Threatened Species Status for Black-Capped Petrel With a Section 4(d) Rule | Proposed Listing—Threatened with Section 4(d) Rule and 12-Month Petition Finding | 83 FR 50560-50574
10/9/2018 | 12-Month Petition Finding and Threatened Species Status for Eastern Black Rail With a Section 4(d) Rule | Proposed Listing—Threatened with Section 4(d) Rule and 12-Month Petition Finding | 83 FR 50610-50630
10/9/2018 | Threatened Species Status With Section 4(d) Rule and Critical Habitat Designation for Slenderclaw Crayfish | Proposed Listing—Threatened with Section 4(d) Rule and Critical Habitat and 12-Month Finding | 83 FR 50582-50610
10/11/2018 | Threatened Species Status With Section 4(d) Rule and Critical Habitat Designation for Atlantic Pigtoe | Proposed Listing—Threatened with Section 4(d) Rule and Critical Habitat and 12-Month Finding | 83 FR 51570-51609
11/21/2018 | Endangered Species Status for the Candy Darter | Final Listing—Endangered | 83 FR 58747-58754
12/19/2018 | 12-Month Findings on Petitions to List 13 Species as Endangered or Threatened Species | 12-Month Petition Findings | 83 FR 65127-65134
12/28/2018 | Threatened Species Status for Trispot Darter | Final Listing—Threatened | 83 FR 67131-67140
4/4/2019 | 12-Month Findings on Petitions to List Eight Species as Endangered or Threatened Species | 12-Month Petition Findings | 84 FR 13237-13242
4/4/2019 | 12-Month Petition Finding and Endangered Species Status for the Missouri Distinct Population Segment of Eastern Hellbender | Proposed Listing—Endangered and 12-Month Petition Finding | 84 FR 13223-13237
4/26/2019 | 90-Day Findings for Four Species (3 domestic species and 1 foreign species)* | 90-Day Petition Findings | 84 FR 17768-17771
5/22/2019 | Threatened Species Status with Section 4(d) Rule for Neuse River Waterdog and Endangered Species Status for Carolina Madtom and Proposed Designations of Critical Habitat | Proposed Listings—Threatened Status with Section 4(d) Rule with Critical Habitat; Endangered Status with Critical Habitat and 12-Month Petition Findings | 84 FR 23644-23691
8/13/2019 | Endangered Species Status for Franklin's Bumble Bee | Proposed Listing—Endangered and 12-Month Petition Finding | 84 FR 40006-40019
8/15/2019 | 12-Month Findings on Petitions to List Eight Species as Endangered or Threatened Species | 12-Month Petition Findings | 84 FR 41694-41699
8/15/2019 | 90-Day Findings for Three Species | 90-Day Petition Findings | 84 FR 41691-41694
9/6/2019 | 90-Day Findings for Three Species | 90-Day Petition Findings | 84 FR 46927-46931
10/07/2019 | Twelve Species Not Warranted for Listing as Endangered or Threatened Species | 12-Month Petition Findings | 84 FR 53336-53343
10/21/2019 | Endangered Species Status for Barrens Topminnow | Final Listing—Endangered | 84 FR 56131-56136
11/08/2019 | 12-Month Finding for the California Spotted Owl | 12-Month Petition Finding | 84 FR 60371-60372
11/21/2019 | Threatened Species Status for Meltwater Lednian Stonefly and Western Glacier Stonefly With a Section 4(d) Rule | Final Listing—Threatened with Section 4(d) Rule | 84 FR 64210-64227
12/06/2019 | Endangered Species Status for Beardless Chinchweed With Designation of Critical Habitat, and Threatened Species Status for Bartram's Stonecrop With Section 4(d) Rule | Proposed Listings—Endangered with Critical Habitat; Threatened with Section 4(d) Rule and 12-Month Petition Findings | 84 FR 67060-67104
12/19/2019 | Five Species Not Warranted for Listing as Endangered or Threatened Species | 12-Month Petition Findings | 84 FR 69707-69712
12/19/2019 | 90-Day Findings for Two Species | 90-Day Petition Findings | 84 FR 69713-69715
01/08/2020 | Threatened Species Status for the Hermes Copper Butterfly With 4(d) Rule and Designation of Critical Habitat | Proposed Listing—Threatened with Section 4(d) Rule and Critical Habitat | 85 FR 1018-1050
01/08/2020 | Endangered Status for the Sierra Nevada Distinct Population Segment of the Sierra Nevada Red Fox | Proposed Listing—Endangered | 85 FR 862-872
05/05/2020 | Endangered Status for the Island Marble Butterfly and Designation of Critical Habitat | Final Listing—Endangered with Critical Habitat | 85 FR 26786-26820
05/15/2020 | Endangered Species Status for Southern Sierra Nevada Distinct Population Segment of Fisher | Final Listing—Endangered | 85 FR 29532-29589
7/16/2020 | 90-Day Finding for the Dunes Sagebrush Lizard | 90-Day Petition Finding | 85 FR 43203-43204
7/22/2020 | 90-Day Findings for Two Species | 90-Day Petition Findings | 85 FR 44265-44267
7/23/2020 | Four Species Not Warranted for Listing as Endangered or Threatened Species | 12-Month Petition Findings | 85 FR 44478-44483
8/26/2020 | Endangered Species Status for Marron Bacora and Designation of Critical Habitat | Proposed Listing—Endangered with Critical Habitat and 12-Month Petition Finding | 85 FR 52516-52540
9/1/2020 | Two Species Not Warranted for Listing as Endangered or Threatened Species | 12-Month Petition Findings | 85 FR 54339-54342
9/16/2020 | Findings on a Petition To Delist the Distinct Population Segment of the Western Yellow-Billed Cuckoo and a Petition To List the U.S. Population of Northwestern Moose** | 12-Month Petition Finding | 85 FR 57816-57818
9/17/2020 | Threatened Species Status for Chapin Mesa milkvetch and Section 4(d) Rule with Designation of Critical Habitat | Proposed Listing—Threatened With Section 4(d) Rule and Critical Habitat | 85 FR 58224-58250
9/17/2020 | Threatened Species Status for Big Creek crayfish and St. Francis River Crayfish and With Section 4(d) Rule with Designation of Critical Habitat | Proposed Listings—Threatened With Section 4(d) Rule and Critical Habitat | 85 FR 58192-58222
9/29/2020 | Threatened Species Status for longsolid and round hickorynut mussel and Section 4(d) Rule With Designation of Critical Habitat, Not Warranted 12-Month Finding for purple Lilliput | Proposed Listings—Threatened With Section 4(d) Rule and Critical Habitat; 12-Month Petition Findings |
9/29/2020 | Threatened Species Status for Wright's Marsh Thistle and Section 4(d) Rule With Designation of Critical Habitat | Proposed Listing—Threatened With Section (4) Rule and Critical Habitat |
* 90-day finding batches may include findings regarding both domestic and foreign species. The total number of 90-day findings reported in this assessment of expeditious progress pertains to domestic species only.
** Batched 12-month findings may include findings regarding listing and delisting petitions. The total number of 12-month findings reported in this assessment of expeditious progress pertains to listing petitions only.

Table 2—Domestic Listing Actions Funded and Initiated in Previous FYs and in FY 2020 That Are Not Yet Complete
[As of September 30, 2020]
Species | Action
northern spotted owl | 12-month finding.
false spike | 12-month finding.
Guadalupe fatmucket | 12-month finding.
Guadalupe orb | 12-month finding.
Texas fatmucket | Proposed listing determination or not warranted finding.
Texas fawnsfoot | Proposed listing determination or not warranted finding.
Texas pimpleback | Proposed listing determination or not warranted finding.
South Llano Springs moss | 12-month finding.
peppered chub | 12-month finding.
whitebark pine | Proposed listing determination or not warranted finding.
Key ringneck snake | 12-month finding.
Rimrock crowned snake | 12-month finding.
Euphilotes ancilla cryptica | 12-month finding.
Euphilotes ancilla purpura | 12-month finding.
Hamlin Valley pyrg | 12-month finding.
longitudinal gland pyrg | 12-month finding.
sub-globose snake pyrg | 12-month finding.
Louisiana pigtoe | 12-month finding.
Texas heelsplitter | 12-month finding.
triangle pigtoe | 12-month finding.
prostrate milkweed | 12-month finding.
alligator snapping turtle | 12-month finding.
Black Creek crayfish | 12-month finding.
bracted twistflower | Proposed listing determination or not warranted finding.
Canoe Creek clubshell | 12-month finding.
Clear Lake hitch | 12-month finding.
Doll's daisy | 12-month finding.
frecklebelly madtom | 12-month finding.
longfin smelt (San Francisco Bay-Delta DPS) | Proposed listing determination or not warranted finding.
magnificent Ramshorn | Proposed listing determination or not warranted finding.
Mt. Rainier white-tailed ptarmigan | 12-month finding.
Ocmulgee skullcap | 12-month finding.
Penasco least chipmunk | Proposed listing determination or not warranted finding.
Puerto Rico harlequin butterfly | Proposed listing determination or not warranted finding.
Puget oregonian snail | 12-month finding.
relict dace | 12-month finding.
Rocky Mountain monkeyflower | 12-month finding.
sickle darter | 12-month finding.
southern elktoe | 12-month finding.
southern white-tailed ptarmigan | 12-month finding.
tidewater amphipod | 12-month finding.
tufted puffin | 12-month finding.
western spadefoot | 12-month finding.

Table 3—Completed Domestic Recovery Actions (Proposed and Final Downlistings and Delistings) in FY 2019 and FY 2020
[As of September 30, 2020]
Publication date | Title | Action(s) | Federal Register Citation
10/18/2018 | Removing Deseret Milkvetch (Astragalus desereticus) From the Federal List of Endangered and Threatened Plants | Final Rule—Delisting | 83 FR 52775-52786
02/26/2019 | Removing the Borax Lake Chub From the List of Endangered and Threatened Wildlife | Proposed Rule—Delisting | 84 FR 6110-6126
03/15/2019 | Removing the Gray Wolf (Canis lupus) From the List of Endangered and Threatened Wildlife | Proposed Rule—Delisting | 84 FR 9648-9687
05/03/2019 | Reclassifying the American Burying Beetle From Endangered to Threatened on the Federal List of Endangered and Threatened Wildlife With a 4(d) Rule | Proposed Rule—Downlisting | 84 FR 19013-19029
08/27/2019 | Removing Trifolium stoloniferum (Running Buffalo Clover) From the Federal List of Endangered and Threatened Plants | Proposed Rule—Delisting | 84 FR 44832-44841
09/13/2019 | Removing the Foskett Speckled Dace From the List of Endangered and Threatened Wildlife | Final Rule—Delisting | 84 FR 48290-48308
10/03/2019 | Removal of the Monito Gecko (Sphaerodactylus micropithecus) From the Federal List of Endangered and Threatened Wildlife | Final Rule—Delisting | 84 FR 52791-52800
10/07/2019 | Removal of Howellia aquatilis (Water Howellia) From the List of Endangered and Threatened Plants | Proposed Rule—Delisting | 84 FR 53380-53397
10/09/2019 | Removing the Kirtland's Warbler From the Federal List of Endangered and Threatened Wildlife | Final Rule—Delisting | 84 FR 54436-54463
10/24/2019 | Removal of the Interior Least Tern From the Federal List of Endangered and Threatened Wildlife | Proposed Rule—Delisting | 84 FR 56977-56991
11/05/2019 | Removing Oenothera coloradensis (Colorado Butterfly Plant) From the Federal List of Endangered and Threatened Plants | Final Rule—Delisting | 84 FR 59570-59588
11/26/2019 | Removing Bradshaw's Lomatium From the Federal List of Endangered and Threatened Plants | Proposed Rule—Delisting | 84 FR 65067-65080
11/26/2019 | Removal of the Nashville Crayfish From the Federal List of Endangered and Threatened Wildlife | Proposed Rule—Delisting | 84 FR 65098-65112
11/26/2019 | Reclassification of the Endangered June Sucker to Threatened With a Section 4(d) Rule | Proposed Rule—Downlisting | 84 FR 65080-65098
12/19/2019 | Reclassifying the Hawaiian Goose From Endangered to Threatened With a Section 4(d) Rule | Final Rule—Downlisting | 84 FR 69918-69947
01/02/2020 | Removing the Hawaiian Hawk From the Federal List of Endangered and Threatened Wildlife | Final Rule—Delisting | 85 FR 164-189
01/06/2020 | Removing the Kanab Ambersnail From the List of Endangered and Threatened Wildlife | Proposed Rule—Delisting | 85 FR 487-492
01/22/2020 | Reclassification of the Humpback Chub From Endangered to Threatened With a Section 4(d) Rule | Proposed Rule—Downlisting | 85 FR 3586-3601
03/10/2020 | Removing Lepanthes eltoroensis From the Federal List of Endangered and Threatened Plants | Proposed Rule—Delisting | 85 FR 13844-13856
04/27/2020 | Removing Arenaria cumberlandensis (Cumberland Sandwort) From the Federal List of Endangered and Threatened Plants | Proposed Rule—Delisting | 85 FR 23302-23315
06/01/2020 | Removing San Benito Evening-Primrose (Camissonia benitensis) From the Federal List of Endangered and Threatened Plants | Proposed Rule—Delisting | 85 FR 33060-33078
06/11/2020 | Removing the Borax Lake Chub From the List of Endangered and Threatened Wildlife | Final Rule—Delisting | 85 FR 35574-35594
7/24/2020 | Reclassification of Morro Shoulderband Snail (Helminthoglypta walkeriana) From Endangered to Threatened With a 4(d) Rule | Proposed Rule—Downlisting | 85 FR 44821-44835
8/19/2020 | Reclassification of Stephens' Kangaroo Rat From Endangered To Threatened With a Section 4(d) Rule | Proposed Rule—Downlisting | 85 FR 50991-51006
9/30/2020 | Reclassification of Virgin Islands Tree Boa From Endangered To Threatened With a Section 4(d) Rule | Proposed Rule—Downlisting |
9/30/2020 | Reclassficiation of beach layia (Layia carnosa) From Endangered To Threatened With a Section 4(d) Rule | Proposed Rule—Downlisting |

When a petitioned action is found to be warranted but precluded, the Service is required by the Act to treat the petition as resubmitted on an annual basis until a proposal or withdrawal is published. If the petitioned species is not already listed under the Act, the species becomes a “candidate” and is reviewed annually in the “candidate notice of review” (CNOR). The number of candidate species remaining in FY 2020 is the lowest it has been since 1975. For these species, we are working on developing a species status assessment, preparing proposed listing determinations, or preparing not-warranted 12-month findings.

Another way that we have been expeditious in making progress in adding and removing qualified species to and from the Lists is that we have made our actions as efficient and timely as possible, given the requirements of the Act and regulations and constraints relating to workload and personnel. We are continually seeking ways to streamline processes or achieve economies of scale, such as batching related actions together for publication. Given our limited budget for implementing section 4 of the Act, these efforts also contribute toward our expeditious progress in adding and removing qualified species to and from the Lists.

Findings for Petitioned Candidate Species

For all 11 candidates, we continue to find that listing is warranted but precluded as of the date of publication of this document. However, we are working on thorough reviews of all available data regarding these species and expect to publish either proposed listing rules or 12-month not-warranted findings prior to making the next annual resubmitted petition 12-month findings for 8 of these species. In the course of preparing proposed listing rules or not-warranted petition findings, we are continuing to monitor new information about these species' status so that we can make prompt use of our authority under section 4(b)(7) of the Act in the case of an emergency posing a significant risk to any of these species.

Below are updated summaries for the four petitioned candidates for which we published findings under section 4(b)(3)(B) of the Act. In accordance with section 4(b)(3)(C)(i), we treat any petitions for which we made warranted-but-precluded 12-month findings within the past year as having been resubmitted on the date of the warranted-but-precluded finding. We are making continued warranted-but-precluded 12-month findings on the petitions for these species.

Gopher tortoise

Gopherus polyphemus (gopher tortoise, eastern population)—The gopher tortoise is a large, terrestrial, herbivorous turtle that reaches a total length up to 15 inches (38 centimeters) and typically inhabits the sandhills, pine/scrub oak uplands, and pine flatwoods associated with the longleaf pine (Pinus palustris) ecosystem. A fossorial animal, the gopher tortoise is usually found in areas with well-drained, deep, sandy soils, an open tree canopy, and a diverse, abundant herbaceous groundcover. The gopher tortoise ranges from extreme southern South Carolina south through peninsular Florida, and west through southern Georgia, Florida, southern Alabama, and Mississippi, into extreme southeastern Louisiana.

The gopher tortoise is currently federally listed as a threatened distinct population segment in the western portion of its range, which includes Alabama (west of the Mobile and Tombigbee Rivers), Mississippi, and Louisiana. We were petitioned to list the species in the remaining eastern portion of the range (South Carolina, Florida, Georgia, and Alabama (east of the Mobile and Tombigbee Rivers)). In our 12-month finding on that petition, we determined that the gopher tortoise warrants listing range wide. Thus, we consider the eastern population of the gopher tortoise, which is not yet listed, to be a candidate species. Currently, we are working on the species status assessment for the entire range of the species; that assessment will provide the science that we will use to make final decision regarding the status of the species, including the eastern population.

The primary threat to the gopher tortoise is fragmentation, destruction, and modification of its habitat, including conversion of longleaf pine forests to incompatible silvicultural or agricultural habitats, urbanization, shrub/hardwood encroachment (mainly from fire exclusion or insufficient fire management), and establishment and spread of invasive species. Other threats include disease, predation (mainly on nests and young tortoises), and inadequate regulatory mechanisms, specifically those needed to protect and enhance relocated tortoise populations into the future. The magnitude of threats to the eastern range of the gopher tortoise is considered to be low to moderate, because populations extend over a broad geographic area and conservation measures are in place in some areas. However, the species is currently being impacted by a number of threats, including destruction and modification of its habitat, predation, exotics, and inadequate regulatory mechanisms. Thus, because the magnitude of threats is low to moderate, the threats are imminent, and we are evaluating just the eastern population of the species, we have assigned a listing priority number of 8 to this species.

Longfin smelt

Longfin smelt (Spirinchus thaleichthys), Bay-Delta DPS—The following summary is based on our information contained in our files and the April 2, 2012, 12-month finding published in the Federal Register (77 FR 19756). In our 12-month finding, we determined that the San Francisco Bay-Delta distinct vertebrate population segment (Bay-Delta DPS) of the longfin smelt warranted listing as an endangered or threatened species under the Act, but that listing was precluded by higher priority listing actions. Longfin smelt measure 9-11 cm (3.5-4.3 in) in length. Longfin smelt are considered pelagic (open water) and anadromous (fish that migrate up rivers from the sea to spawn) within the Bay-Delta, although anadromy in longfin smelt is not fully understood and certain populations in other parts of the species' range complete their entire life cycle in freshwater lakes and streams. Longfin smelt usually live for 2 years, spawn, and then die, although some individuals may spawn as 1- or 3-year-old fish before dying. In the San Francisco Bay-Delta, longfin smelt are believed to spawn primarily in freshwater in the lower reaches of the Sacramento River and San Joaquin River, in South Bay tributaries such as Alviso Creek and Coyote Creek, and in North Bay tributaries such as the Napa River and Petaluma River.

Longfin smelt numbers in the San Francisco Bay-Delta have declined significantly since the 1980s, with marked declines from 2002 to 2016. Longfin smelt abundance over the last decade is the lowest recorded in the 40-year history of surveys done by the California Department of Fish and Wildlife.

The primary threats to the Bay-Delta DPS of longfin smelt are reduced freshwater flows, competition from introduced species, climate change, and potential contaminants. Freshwater flows, especially winter-spring flows, are significantly correlated with longfin smelt abundance (i.e., longfin smelt abundance is lower when winter-spring flows are lower). Reductions in food availability and disruptions of the Bay-Delta food web caused by establishment of the nonnative overbite clam (Corbula amurensis) and ammonium released into the system have also likely attributed to declines in the species' abundance within the San Francisco Bay-Delta. The threats remain high in magnitude, as they pose a significant risk to the DPS throughout its range.

The State of California has listed the longfin smelt under the California Endangered Species Act, and a new permit for operation of the State Water Project has been issued, which includes protections for longfin smelt, including winter-spring outflow requirements. In addition, the California State Water Resources Control Board has adopted new flow objectives for the Lower San Joaquin River and will be addressing Delta flow objectives this year. Through these processes, we anticipate the State will take action to reduce the threats particularly around outflow, and is poised to do so in the near term. Therefore, the threat is not operative in the immediate future, and thus is non-imminent.

As climate change is a gradual process, the current year-round temperatures in the San Francisco Estuary may not yet be high enough to be an immediate stressor for the species, but could impact the species in the future. In addition, upgrades to the Sacramento Regional Wastewater Treatment Plant, which is the largest discharger of the contaminant ammonium in the Delta, are expected to occur in 2021-2023 and would result in significant reductions in ammonium release, thus negating the imminence of contaminants as a stressor for the species. Competition against introduced species is an ongoing threat for the species, but this stressor alone is unlikely to serve as the primary driver that would warrant listing. Thus, we have assigned an LPN of 6 to this population.

Magnificent ramshorn

The magnificent ramshorn (Planorbella magnifica) is the largest North American air-breathing freshwater snail in the family Planorbidae. It has a discoidal (i.e., coiling in one plane), relatively thin shell that reaches a diameter commonly exceeding 35mm and heights exceeding 20mm. The great width of its shell, in relation to the diameter, makes it easily identifiable at all ages. The shell is tan/brown colored and fragile, thus indicating it is adapted to still or slow flowing aquatic habitats.

The magnificent ramshorn is believed to be a southeastern North Carolina endemic; it is known from only four sites in the lower Cape Fear River Basin in North Carolina. It now appears to be extirpated from the wild. The complete historical range of the species is unknown, although the size of the species and the fact that it was not reported until 1903 indicate that the species may have always been rare and localized. Salinity and pH are major factors limiting the distribution of the magnificent ramshorn, as the snail prefers freshwater bodies with circumneutral pH (i.e., pH within the range of 6.8-7.5). While members of the family Planorbidae are hermaphroditic, it is currently unknown whether magnificent ramshorns self-fertilize their eggs, mate with other individuals of the species, or both. Like other members of the Planorbidae family, the magnificent ramshorn is believed to be primarily a vegetarian, feeding on submerged aquatic plants, algae, and detritus.

While several factors have likely contributed to the possible extirpation of the magnificent ramshorn in the wild, the primary factors include loss of habitat associated with the extirpation of beavers (and their impoundments) in the early 20th century, increased salinity and alteration of flow patterns, as well as increased input of nutrients and other pollutants. The magnificent ramshorn appears to be extirpated from the wild due to habitat loss and degradation resulting from a variety of human-induced and natural factors.

The only known surviving individuals of the species are presently being held and propagated at a private residence, a lab at NC State University's Veterinary School, and the NC Wildlife Resources Commission's Conservation Aquaculture Center in Marion, NC. While efforts have been made to restore habitat for the magnificent ramshorn at one of the sites known to have previously supported the species, all of the sites continue to be affected and/or threatened by the same factors (i.e., saltwater intrusion and other water-quality degradation, nuisance-aquatic-plant control, storms, sea-level rise, etc.) believed to have resulted in extirpation of the species from the wild. Currently, only three captive populations exist; a captive population of the species comprised of approximately 2000+ adults, one with approximately 300+ adults, and one with approximately 20 adults. Although captive populations of the species have been maintained since 1993, a single catastrophic event, such as a severe storm, disease, or predator infestation, affecting this captive population could result in the near extinction of the species. Because the threats are of high magnitude and imminence, we assigned an LPN of 2 to the species.

Sonoran Desert Tortoise

The Sonoran desert tortoise (Gopherus morafkai) occurs in central and southeast Arizona and in northeast Sonora, Mexico. Adult tortoises can reach 15 inches long and mainly occur on rocky, steep slopes and bajadas (lower mountain slopes) and in paloverde-mixed cacti associations at elevations between 900 to 4,200 feet. Until 2011, the Sonoran desert tortoise was considered to be a population of the desert tortoise (Gopherus agassizii); however, the Sonoran desert tortoise was identified as a unique species (Gopherus morafkai) in 2011. In 2008, we were petitioned to list as an endangered or threatened DPS of desert tortoise what is now recognized as the Sonoran desert tortoise. We published a substantial 90-day finding on the petition on August 28, 2009 (74 FR 44335). On December 14, 2010, we found the species warranted for listing but precluded by higher priority actions, and the entity was added to our list of candidate species (75 FR 78094). After completing a species status assessment, we subsequently published a 12-month petition finding on October 6, 2015, determining that the Sonoran desert tortoise was not warranted for listing as endangered or threatened under the Act (80 FR 60321).

The petitioners filed a complaint on September 5, 2019, challenging our 2015 not-warranted finding for the Sonoran desert tortoise and alleging violations of the ESA. We reached a settlement agreement with the petitioners, which was approved by the Court on August 3, 2020, to reconsider our not-warranted finding and to develop a new 12-month finding as to whether the Sonoran desert tortoise warrants listing as an endangered or threatened species. As a result of that agreement, we are withdrawing our 2015 12-month finding and have returned the Sonoran desert tortoise back to the candidate list. We agreed to submit to the Federal Register a new 12-month petition finding on the status of the Sonoran desert tortoise within 18 months of the court order—by February 3, 2022. We are beginning a revised status review now and are requesting any new information, regarding the species' distribution and abundance, its habitat, conservation efforts or threats, be provided to the Service for consideration in the species status assessment.

Correction From Previous CNOR (84 FR 54732)

On October 10, 2019, we published in the Federal Register (84 FR 54732) the CNOR for FY 2017 and FY 2018, in which we erroneously included Berry Cave salamander as a candidate under review. On October 7, 2019, we published in the Federal Register (84 FR 53336) a 12-month finding that the Berry Cave salamander is not warranted for listing under the Act, which removed the species from our candidate list.

Candidates in Review

The Puerto Rico harlequin butterfly (Atlantea tulita), whitebark pine (Pinus albicaulis), bracted twistflower (Streptanthus bracteatus), Penasco least chipmunk (Tamias minimus atristriatus), Texas fatmucket (Lampsilis bracteate), Texas fawnsfoot (Truncilla macrodon), and Texas pimpleback (Cyclonaias petrina) are candidates for which we have initiated the analysis regarding the threats to the species and status of the species, but the proposed listing rule or not-warranted finding for these species was not yet completed as of September 30, 2020. We have funded these actions and intend to complete our classification decision in the near future.

Petitions To Reclassify Species Already Listed

We previously made warranted-but-precluded findings on four petitions seeking to reclassify threatened species to endangered status. The taxa involved in the reclassification petitions are two populations of the grizzly bear (Ursus arctos horribilis), delta smelt (Hypomesus transpacificus), and Pariette cactus (Sclerocactus brevispinus). Because these species are already listed under the Act, they are not candidates for listing and are not included in Table 1.

We are currently assessing the best scientific and commercial data available pertaining to the status of the grizzly and its populations for a comprehensive 5-year review, which we plan to complete and post no later than March 31, 2021 per a stipulated settlement agreement in Center for Biological Diversity v. Bernhardt, No. 19-cv-00109-DLC (D. Mont. Dec. 6, 2019). We published the notice of initiation of the status review in the Federal Register on January 14, 2020 (85 FR 2143). In order to ensure that our resubmitted-petition finding for this species is based on the best scientific and commercial data available, we plan to complete the finding after we have completed the comprehensive 5-year review.

This CNOR and associated species assessment forms also constitute the findings for the resubmitted petitions to reclassify the delta smelt and the Pariette cactus. Our updated assessments for these species are provided below. We find that reclassification to endangered status for delta smelt and Pariette cactus are currently warranted but precluded by work identified above (see Findings for Petitioned Candidate Species, above). One of the primary reasons that the work identified above is considered to have higher priority is that the delta smelt and Pariette cactus are currently listed as threatened, and therefore already receive certain protections under the Act. For the delta smelt, those protections are set forth in our regulations at 50 CFR 17.31 and, by reference, 50 CFR 17.21; for Pariette cactus, the protections are set forth in our regulations at 50 CFR 17.71 and, by reference, 50 CFR 17.61. It is therefore unlawful for any person, among other prohibited acts, to take (i.e., to harass, harm, pursue, hunt, shoot, wound, kill, trap, capture, or collect, or attempt to engage in such activity) a delta smelt, subject to applicable exceptions. Also, it is unlawful for any person, among other prohibited acts, to remove or reduce to possession Pariette cactus from an area under Federal jurisdiction, subject to applicable exceptions. Other protections that apply to these threatened species even before we complete proposed and final reclassification rules include those under section 7(a)(2) of the Act, whereby Federal agencies must insure that any action they authorize, fund, or carry out is not likely to jeopardize the continued existence of any endangered or threatened species.

Delta smelt (Hypomesus transpacificus)—The following summary is based on information contained in our files and the April 7, 2010, 12-month finding published in the Federal Register (75 FR 17667); see that 12-month finding for additional information on why reclassification to endangered is warranted but precluded. In our 12-month finding, we determined that a change in status of the delta smelt from threatened to endangered was warranted, although precluded by other high-priority listing actions. The primary rationale for reclassifying delta smelt from threatened to endangered was the significant decline in species abundance that have occurred since 2001, and the continuing downward trend in delta smelt abundance indices supports that finding. Fourteen of the last 15 years have seen fall abundances that have been the lowest ever recorded. 2015 to 2019 results from all four of the surveys analyzed in this review have been the lowest ever recorded for the delta smelt. Delta smelt abundance in fall was exceptionally low between 2004 and 2010, increased during the wet year of 2011, and decreased again to very low levels at present. The latest 2018 and 2019 fall surveys did not detect a single delta smelt, resulting in an abundance index of 0, and the latest 2019 spring survey resulted in an abundance index of 0.4, all of which are the lowest on record.

The primary threats to the delta smelt are direct entrainments by State and Federal water export facilities; reduction of suitable habitat through summer and fall increases in salinity and water clarity, resulting from decreases in freshwater flow into the estuary; and effects from introduced species. Ammonia in the form of ammonium may also be a significant threat to the survival of the delta smelt. Additional potential threats are predation by striped and largemouth bass and inland silversides, contaminants, climate change, and small population size. We have identified a number of existing regulatory mechanisms that provide protective measures that affect the stressors acting on the delta smelt. Despite these existing regulatory mechanisms and other conservations efforts, the stressors continue to act on the species such that it is warranted for uplisting under the ESA.

As a result of our analysis of the best scientific and commercial data available, we have retained the recommendation of reclassifying the delta smelt to an endangered species. We have assigned an LPN of 2, based on the high magnitude and high imminence of threats faced by the species. The magnitude of the threats is high because the threats occur rangewide and result in mortality or significantly reduce the reproductive capacity of the species. Threats are imminent because they are ongoing and, in some cases (e.g., nonnative species), considered irreversible. Thus, we are maintaining an LPN of 2 for this species.

We note that an LPN of 2 does not mean that uplisting the species to endangered is a high priority for the Service. Since the delta smelt's current classification as threatened already provides the species the protections afforded by the Act (as set forth in our regulations at 50 CFR 17.31 and, by reference, 50 CFR 17.21), reclassifying the species to endangered status will not substantively increase protections for the delta smelt, but rather more accurately classify the species given its current status.

Pariette cactus (Sclerocactus brevispinus)—Pariette cactus is restricted to clay badlands of the Uinta geologic formation in the Uinta Basin of northeastern Utah. The species is known from several subpopulations that comprise a single metapopulation with an overall range of approximately 20 miles by 14 miles in extent. The species' entire range is within a developed and expanding oil and gas field. The location of the species' habitat exposes it to destruction from road, pipeline, and well-site construction in connection with oil and gas development. The species may be illegally collected as a specimen plant for horticultural use. Recreational off-road vehicle use and livestock trampling are additional threats. The species is currently federally listed as threatened (44 FR 58868, October 11, 1979; 74 FR 47112, September 15, 2009). The threats are of a high magnitude, because any one of the threats has the potential to severely affect the survival of this species, a narrow endemic with a highly limited range and distribution. Threats are ongoing and, therefore, are imminent. Thus, we assigned an LPN of 2 to this species for uplisting. However, higher priority listing actions, including court-approved settlements, court-ordered and statutory deadlines for petition findings and listing determinations, emergency listing determinations, and responses to litigation, continue to preclude reclassifying the Pariette cactus. Furthermore, proposed rules to reclassify threatened species to endangered are generally a lower priority than listing currently unprotected species (i.e., candidate species), as species currently listed as threatened are already afforded the protection of the Act and the implementing regulations.

We continue to find that reclassification of this species to endangered is warranted but precluded as of the date of publication of this document. (See 72 FR 53211, September 18, 2007, and the species assessment form (see ADDRESSES) for additional information on why reclassification to endangered is warranted but precluded.) However, we are working on a thorough review of all available data and expect to publish a 5-year status review and draft recovery plan prior to making the next annual resubmitted petition 12-month finding. In the course of preparing a 5-year status review and draft recovery plan, we are continuing to monitor new information about this species' status.

Current Candidate Notice of Review

We gather data on plants and animals native to the United States that appear to merit consideration for addition to the Lists of Endangered and Threatened Wildlife and Plants (Lists). This CNOR identifies those species that we currently regard as candidates for addition to the Lists. These candidates include species and subspecies of fish, wildlife, or plants, and DPSs of vertebrate animals. This compilation relies on information from status surveys conducted for candidate assessment and on information from State Natural Heritage Programs, other State and Federal agencies, knowledgeable scientists, public and private natural resource interests, and comments received in response to previous CNORs.

Tables 4, 5, and 6, below, list animals arranged alphabetically by common names under the major group headings, and list plants alphabetically by names of genera, species, and relevant subspecies and varieties. Animals are grouped by class or order. Useful synonyms and subgeneric scientific names appear in parentheses with the synonyms preceded by an “equals” sign. Several species that have not yet been formally described in the scientific literature are included; such species are identified by a generic or specific name (in italics), followed by “sp.” or “ssp.” We incorporate standardized common names in these documents as they become available. We sort plants by scientific name due to the inconsistencies in common names, the inclusion of vernacular and composite subspecific names, and the fact that many plants still lack a standardized common name.

Table 4 lists all candidate species, plus species currently proposed for listing under the Act. We emphasize that in this CNOR we are not proposing to list any of the candidate species; rather, we will develop and publish proposed listing rules for these species in the future. We encourage State agencies, other Federal agencies, and other parties to consider these species in environmental planning.

In Table 5, the “category” column on the left side of the table identifies the status of each species according to the following codes:

PE—Species proposed for listing as endangered. This category, as well as PT and PSAT (below), does not include species for which we have withdrawn or finalized the proposed rule.

PT—Species proposed for listing as threatened.

PSAT—Species proposed for listing as threatened due to similarity of appearance.

C—Candidates: Species for which we have on file sufficient information on biological vulnerability and threats to support proposals to list them as endangered or threatened. Issuance of proposed rules for these species is precluded at present by other higher priority listing actions. This category includes species for which we made a 12-month warranted-but-precluded finding on a petition to list. Our analysis for this CNOR included making new findings on all petitions for which we previously made “warranted-but-precluded” findings. We identify the species for which we made a continued warranted-but-precluded finding on a resubmitted petition by the code “C*” in the category column (see Findings for Petitioned Candidate Species, above, for additional information).

The “Priority” column indicates the LPN for each candidate species, which we use to determine the most appropriate use of our available resources. The lowest numbers have the highest priority. We assign LPNs based on the immediacy and magnitude of threats, as well as on taxonomic status. We published a complete description of our listing priority system in the Federal Register (48 FR 43098; September 21, 1983).

Following the scientific name (third column) and the family designation (fourth column) is the common name (fifth column). The sixth column provides the known historical range for the species or vertebrate population (for vertebrate populations, this is the historical range for the entire species or subspecies and not just the historical range for the distinct population segment), indicated by postal code abbreviations for States and U.S. territories. Many species no longer occur in all of the areas listed.

Species in Table 6 of this CNOR are those domestic species that we included either as proposed species or as candidates in the previous CNOR (published October 10, 2019, at 84 FR 54732) that are no longer proposed species or candidates for listing. Since October 10, 2019, we listed three species and removed three species from the candidate list by making not-warranted findings or withdrawing proposed rules. The first column indicates the present status of each species, using the following codes (not all of these codes may have been used in this CNOR):

E—Species we listed as endangered.

T—Species we listed as threatened.

SAT—Species we listed as threatened due to similarity of appearance.

Rc—Species we removed from the candidate list, because currently available information does not support a proposed listing.

Rp—Species we removed from the candidate list, because we have withdrawn the proposed listing.

The second column indicates why the species is no longer a candidate species or proposed for listing, using the following codes (not all of these codes may have been used in this CNOR):

A—Species that are more abundant or widespread than previously believed and species that are not subject to the degree of threats sufficient that the species is a candidate for listing (for reasons other than that conservation efforts have removed or reduced the threats to the species).

F—Species whose range no longer includes a U.S. territory.

I—Species for which the best available information on biological vulnerability and threats is insufficient to support a conclusion that the species is an endangered species or a threatened species.

L—Species we added to the Lists of Endangered and Threatened Wildlife and Plants.

M—Species we mistakenly included as candidates or proposed species in the last CNOR.

N—Species that are not listable entities based on the Act's definition of “species” and current taxonomic understanding.

U—Species that are not subject to the degree of threats sufficient to warrant issuance of a proposed listing and therefore are not candidates for listing, due, in part or totally, to conservation efforts that remove or reduce the threats to the species.

X—Species we believe to be extinct.

The columns describing scientific name, family, common name, and historical range include information as previously described for Table 1.

Request for Information

We request additional status information that may be available for any of the candidate species identified in this CNOR. We will consider this information to monitor changes in the status or LPN of candidate species and to manage candidates as we prepare listing documents and future revisions to the CNOR. We also request information on additional species to consider including as candidates as we prepare future updates of this CNOR.

We request you submit any further information on the species named in this document as soon as possible or whenever it becomes available. We are particularly interested in any information:

(1) Indicating that we should add a species to the list of candidate species;

(2) Indicating that we should remove a species from candidate status;

(3) Recommending areas that we should designate as critical habitat, or indicating that designation of critical habitat would not be prudent;

(4) Documenting threats to any of the included species;

(5) Describing the immediacy or magnitude of threats facing candidate species;

(6) Pointing out taxonomic or nomenclature changes for any of the species;

(7) Suggesting appropriate common names; and

(8) Noting any mistakes, such as errors in the indicated historical ranges.

We will consider all information provided in response to this CNOR in deciding whether to propose species for listing and when to undertake necessary listing actions (including whether emergency listing under section 4(b)(7) of the Act is appropriate).

Submit information, materials, or comments regarding a particular species to the Regional Director identified as having the lead responsibility for the species in the table below.

Table 4—Candidate Species and Species Proposed for Listing
Species | Regional director | Address | Telephone
Atlantic pigtoe, Black-capped petrel, eastern black rail, gopher tortoise (eastern population), Neuse River waterdog, Carolina madtom, longsolid, magnificent ramshorn, Puerto Rico harlequin butterfly, Panama City crayfish, round hickorynut, slenderclaw crayfish, marron bacora | Leo Miranda-Castro | Regional Director, U.S. Fish and Wildlife Service, 1875 Century Boulevard, Suite 200, Atlanta, GA 30345 | 404-679-4156
Eastern hellbender (Missouri DPS) | Charlie Wooley | Regional Director, U.S. Fish and Wildlife Service, 5600 American Blvd. West, Suite 990, Bloomington, MN 55437-1458 | 612-713-5334
North American wolverine (Contiguous U.S. DPS), Chapin Mesa milkvetch, whitebark pine | Noreen Walsh | Regional Director, U.S. Fish and Wildlife Service, P.O. Box 25486, Denver Federal Center, Denver, CO 80225-0486 | 303-236-7400
Peñasco least chipmunk, Texas fatmucket, Texas fawnsfoot, Texas pimpleback, Wright's marsh thistle, bracted twistflower, Sonoran desert tortoise | Amy Lueders | Regional Director, U.S. Fish and Wildlife Service, 500 Gold Avenue SW, Room 4012, Albuquerque, NM 87102 | 505-248-6920
Dolly Varden trout, Franklin's bumble bee | Robyn Thorson | Regional Director, U.S. Fish and Wildlife Service, Eastside Federal Complex, 911 N.E. 11th Avenue, Portland, OR 97232-4181 | 503-231-6158
Sierra Nevada red fox (Sierra Nevada DPS), Humboldt marten, longfin smelt (San Francisco Bay-Delta DPS), Hermes copper butterfly | Paul Souza | Regional Director, U.S. Fish and Wildlife Service, 2800 Cottage Way, Suite W2606, Sacramento, CA 95825 | 916-414-6464

We will provide information we receive to the office having lead responsibility for each candidate species mentioned in the submission, and information and comments we receive will become part of the administrative record for the species, which we maintain at the appropriate office.

Public Availability of Comments

Before including your address, phone number, email address, or other personal identifying information in your submission, be advised that your entire submission—including your personal identifying information—may be made publicly available at any time. Although you can ask us in your submission to withhold from public review your personal identifying information, we cannot guarantee that we will be able to do so.

Authority

This document is published under the authority of the Endangered Species Act of 1973, as amended (16 U.S.C. 1531 et seq.).

Signed:

Aurelia Skipwith,
Director, U.S. Fish and Wildlife Service.

Table 5—Candidate Notice of Review (Animals and Plants)
[Note: See end of SUPPLEMENTARY INFORMATION for an explanation of symbols used in this table.]
Status: Category | Status: Priority | Scientific name | Family | Common name | Historical range
MAMMALS
C* | 6 | Tamias minimus atristriatus | Sciuridae | Chipmunk, Peñasco least | U.S.A. (NM).
PE | 3 | Vulpes vulpes necator | Canidae | Fox, Sierra Nevada red (Sierra Nevada DPS) | U.S.A. (CA, OR).
PT |  | Martes caurina ssp. humboldtensis | Mustelidae | Marten, Humboldt | U.S.A. (CA).
PT | 6 | Gulo gulo luscus | Mustelidae | Wolverine, North American (Contiguous U.S. DPS) | U.S.A. (CA, CO, ID, MT, OR, UT, WA, WY).
BIRDS
PT |  | Pterodroma hasitata | Procellariidae | Petrel, black-capped | U.S.A. (GA, NC, SC).
PT |  | Laterallus jamaicensis ssp. jamaicensis | Rallidae | Rail, eastern black | U.S.A. (AL, AK, CO, CT, DE, FL, GA, IL, IN, IA, KN, KT, LA, MD, MA, MI, MN, MS, MO, NE, NH, NJ, NM, NY, NC, OH, OK, PA, PR, RI, SC, TN, TX, VT, VA, VI, WV, WI).
REPTILES
C* | 8 | Gopherus polyphemus | Testudinidae | Tortoise, gopher (eastern population) | U.S.A. (AL, FL, GA, LA, MS, SC).
C* | 5 | Gopherus morafkai | Testudinidae | Tortoise, Sonoran desert | U.S.A. (AZ), Mexico.
AMPHIBIANS
PE |  | Cryptobranchus alleganiensis alleganiensis | Cryptobranchidae | Hellbender, eastern (Missouri DPS) | U.S.A. (MO).
PT |  | Necturus lewisi | Proteidae | Waterdog, Neuse River | U.S.A. (NC).
FISHES
PE |  | Noturus furiosus | Ictaluridae | Madtom, Carolina | U.S.A. (NC).
C* | 6 | Spirinchus thaleichthys | Osmeridae | Smelt, longfin (San Francisco Bay-Delta DPS) | U.S.A. (AK, CA, OR, WA), Canada.
PSAT | N/A | Salvelinus malma | Salmonidae | Trout, Dolly Varden | U.S.A. (AK, WA), Canada, East Asia.
CLAMS
C* | 2 | Lampsilis bracteata | Unionidae | Fatmucket, Texas | U.S.A. (TX).
C* | 2 | Truncilla macrodon | Unionidae | Fawnsfoot, Texas | U.S.A. (TX).
PT |  | Obovaria subrotunda | Unionidae | Hickorynut, round | U.S.A. (AL, GA, IL, IN, KY, MI, MS, NY, OH, PA, TN, WV), Canada.
PT |  | Fusconaia masoni | Unionidae | Pigtoe, Atlantic | U.S.A. (GA, NC, VA).
C* | 2 | Quadrula petrina | Unionidae | Pimpleback, Texas | U.S.A. (TX).
PT |  | Fusconaia subrotunda | Unionidae | Longsolid | U.S.A. (AL, GA, IL, IN, KY, MS, MO, NY, NC, OH, PA, SC, TN, VA, WV).
SNAILS
C* | 2 | Planorbella magnifica | Planorbidae | Ramshorn, magnificent | U.S.A. (NC).
INSECTS
PE | 1 | Bombus franklini | Apidae | Bumble bee, Franklin's | U.S.A (CA, OR).
PT | 5 | Lycaena hermes | Lycaenidae | Butterfly, Hermes copper | U.S.A. (CA).
C* | 2 | Atlantea tulita | Nymphalidae | Butterfly, Puerto Rico harlequin | U.S.A. (PR).
CRUSTACEANS
PT |  | Procambarus econfinae | Cambaridae | Crayfish, Panama City | U.S.A. (FL).
PT |  | Cambarus cracens | Cambaridae | Crayfish, slenderclaw | U.S.A. (AL).
FLOWERING PLANTS
PT | 8 | Astragalus schmolliae | Fabaceae | Milkvetch, Chapin Mesa | U.S.A. (CO).
PT | 8 | Cirsium wrightii | Asteraceae | Thistle, Wright's marsh | U.S.A. (AZ, NM), Mexico.
C* | 8 | Pinus albicaulis | Pinaceae | Pine, whitebark | U.S.A. (CA, ID, MT, NV, OR, WA, WY), Canada (AB, BC).
PE | 2 | Solanum conocarpum | Solanaceae | Bacora, marron | U.S.A. (PR).
C* | 8 | Streptanthus bracteatus | Brassicaceae | Twistflower, bracted | U.S.A. (TX).

Table 6—Animals and Plants Formerly Candidates or Formerly Proposed for Listing
[Note: See end of SUPPLEMENTARY INFORMATION for an explanation of symbols used in this table.]
Status: Code | Status: Expl. | Scientific name | Family | Common name | Historical range
MAMMALS
Rc | 9 | Arborimus longicaudus | Cricetidae | Vole, red tree (north Oregon coast DPS) | U.S.A. (OR)
AMPHIBIANS
Rc | A | Gyrinophilus gulolineatus | Plethodontidae | Salamander, Berry Cave | U.S.A. (TN)
FISHES
E | L | Fundulus julisia | Fundulidae | Topminnow, Barrens | U.S.A. (TN)
INSECTS
T | L | Lednia tumana | Nemouridae | Stonefly, meltwater lednian | U.S.A. (MT)
T | L | Zapada glacier | Nemouridae | Stonefly, western glacier | U.S.A. (MT)
FLOWERING PLANTS
Rc | 8 | Astragalus microcymbus | Fabaceae | Milkvetch, skiff | U.S.A. (CO)

[FR Doc. 2020-24198 Filed 11-13-20; 8:45 am]

BILLING CODE 4333-15-P